DEPARTMENT OF ENERGY

Federal Energy Regulatory Commission

[Docket No. CP01-3-000]

El Paso Natural Gas Company; Notice of Application

October 10, 2002.

Take notice that on October 3, 2002, El Paso Natural Gas Company (El Paso), Post Office Box 1087, Colorado Springs, Colorado 80944, filed in Docket No. CP03-1-000, an application, pursuant to Section 7(c) of the Natural Gas Act (NGA) and Part 157 of the Commission's Regulations for a certificate of public convenience and necessity authorizing the construction, ownership and operation of certain natural gas compression facilities and appurtenances in Arizona, New Mexico, and Texas, referred to as the Line 2000 Power-up Project, all as more fully set forth in the application which is on file with the Commission and open to public inspection.

El Paso proposes to construct, own and operate compression stations at nine new or existing mainline compressor stations on its transmission system to add a total transportation capacity of 320,000 Mcf of natural gas per day. Specifically, El Paso proposes to install compression facilities with a total of 151,600 horsepower on Line 2000 at the existing Casa Grande, Lordsburg, Florida, El Paso, and Cornudas Compressor Stations, and new facilities near milepost (MP) 609 in Cochise County, Arizona (the Cimarron Station), at the former Tom Mix Oil Pump Station located near MP 530 in Pinal County, Arizona, at the former Black River Oil Pump Station located near MP 946 in Culberson County, Texas, and at a new site at approximately MP 1101 in Winkler County, Texas (the Wink Compressor Station). It is explained that the additional capacity would enable El Paso to transport gas from the eastern portion of its system—the Keystone and Waha Pools—to the southern and western portions and would enhance flexibility on the system. El Paso will use the new compression to further integrate its south mainline systems and increase flexibility.

It is explained that the project was proposed in response to issues raised by various parties in four separate proceedings regarding capacity allocation as a result of changed circumstances on El Paso's system.¹ El Paso states that the Commission's order on May 31, 2002, in Docket No. RP00-336-002 established a set of procedures and deadlines to effectuate two principle changes in service on El Paso's system: the conversion of firm FT-1 Full Requirements (FR) service to contract demand (CD) service with specified volumetric entitlements; and the conversion of system-wide receipt point rights to quantified rights and specific receipt points or at supply pools. El Paso states that in a subsequent September 20, 2002 order, the Commission encouraged it to construct the power-up facilities and has directed El Paso to include the capacity from the Line 2000 Power-up Project in its initial allocation of capacity to converting FR shippers. According to El Paso, however, the Commission, in the September 20 order extended the effective date for the reallocation of capacity to May 1, 2003, assuming that the Power-up facilities would be up and running by the summer of 2003.

¹ Docket Nos. RP00-139-000, RP00-336-000, RP01-484-000, and RP01-486-000.

However, El Paso states that it will take approximately 24 months to bring the Line 2000 Power-up project into service.

El Paso contends that the in-service date for the facilities is dependent upon the timing of certificate approvals, the receipt of air quality permits, and the delivery of the compression equipment. Thus, El Paso states that the project will be constructed on a phased construction and in-service schedule, adding increments of 120,000 Mcf per day by February 2004, 100,000 Mcf per day by April 2004, and 100,000 Mcf per day by April 2005.

El Paso specifically requests a certificate order from the Commission which provides that (1) these facilities are needed and in the public interest in light of the changed circumstances on El Paso's system, (2) the expansion of its capacity by way of the Power-up Project is prudent, and (3) El Paso will be allowed to include the costs associated with such facilities in the rates resulting from the next rate case in which El Paso's costs and revenues are reviewed.

El Paso states that it will not assess the FR shippers the reservation charges attributable directly to the Power-up facilities until the next rate case examining its costs and revenues. El Paso asserts that it will assess usage and fuel charges based on the location of the receipts and deliveries for service provided through these facilities prior to that time, pursuant to the provisions of El Paso's FERC Gas Tariff, Second Revised Volume No. 1-A. It is stated that the project meets the criteria of the Commission's 1999 Policy Statement for construction of new facilities, with benefits outweighing any adverse effects. El Paso estimates the total capital cost for the project at $173,287,900.

Any questions regarding this application should be directed to Robert T. Tomlinson, Director, Regulatory Affairs, at (719) 520-3788, El Paso Gas Transmission Company, Post Office Box 1087, Colorado Springs, Colorado 80944.

There are two ways to become involved in the Commission's review of this project. First, any person wishing to obtain legal status by becoming a party to the proceedings for this project should, on or before October 31, 2002, file with the Federal Energy Regulatory Commission, 888 First Street, NE., Washington, DC 20426, a motion to intervene in accordance with the requirements of the Commission's rules of practice and procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's Web site at http://www.ferc.fed.us/efi/doorbell.htm. The Commission strongly encourages parties to file interventions electronically.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Linwood A. Watson, Jr.,
Deputy Secretary.

[FR Doc. 02-26386 Filed 10-16-02; 8:45 am]

BILLING CODE 6717-01-P